DEPARTMENT OF ENERGY

Federal Energy Regulatory Commission

[Project No. 13561-000]

Phoenix Management, LLC; Notice of Preliminary Permit Application Accepted for Filing and Soliciting Comments, Motions To Intervene, and Competing Applications

November 16, 2009.

On July 30, 2009, Phoenix Management, LLC filed an application for a preliminary permit, pursuant to section 4(f) of the Federal Power Act, proposing to study the feasibility of the Adler Canyon Pumped Storage Hydroelectric Project, located in Maricopa County, in the state of Arizona. The sole purpose of a preliminary permit, if issued, is to grant the permit holder priority to file a license application during the permit term. A preliminary permit does not authorize the permit holder to perform any land disturbing activities or otherwise enter upon lands or waters owned by others without the owners' express permission.

The proposed project would consist of the following developments:

(1) A proposed upper and lower intake structure; (2) a proposed 1,900-foot deep, 24-foot diameter vertical shaft; (3) a power tunnel; (4) an upper reservoir having a surface area of 72 acres and a storage capacity of 4,100 acre-feet and maximum water surface elevation of 4,580 feet mean sea level; (5) a lower reservoir having a surface area of 75 acres and a storage capacity of 4,700 acre-feet and maximum water surface elevation of 2,640 feet mean sea level; (6) a proposed powerhouse containing nine new pump/turbine generating units having an installed capacity of 900-megawatts; (7) a proposed 200-foot by 200-foot switchyard; (8) a tailrace; (9) a well; (10) a proposed 300-feet-long, 345-kilovolt transmission line; and (11) appurtenant facilities. The proposed development would have an average annual generation of 2,300 gigawatt-hours.

Applicant Contact: Justin Rundle, President, Phoenix Management LLC, 6514 S. 41st Lane, Phoenix, AZ 85041; phone: (602) 819-8735.

FERC Contact: Mary Greene, 202-502-8865.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13561) in the docket number field to access the document. For assistance, contact FERC Online Support.

Kimberly D. Bose,
Secretary.

[FR Doc. E9-28015 Filed 11-20-09; 8:45 am]

BILLING CODE 6717-01-P